DEPARTMENT OF ENERGY

Federal Energy Regulatory Commission

[Docket No. EC04-23-000, et al.]

FirstEnergy Corp, et al.; Electric Rate and Corporate Filings

November 17, 2003.

The following filings have been made with the Commission. The filings are listed in ascending order within each docket classification.

1. FirstEnergy Corp and its Public Utility Subsidiaries; NRG Energy, Inc. and its Public Utility Subsidiaries

[Docket No. EC04-23-000]

Take notice that on November 14, 2003, FirstEnergy Corp, and its public utility subsidiaries (FirstEnergy) and NRG Energy, Inc. and its public utility subsidiaries (NRG) (collectively, Applicants) filed with the Commission an application pursuant to Section 203 of the Federal Power Act for authorization for FirstEnergy to acquire certain debt and common equity securities of NRG as a means of settling outstanding claims against NRG, and for authorization for FirstEnergy to dispose of such securities as soon as possible thereafter in light of market conditions. Applicants state that if a Settlement Agreement is approved, FirstEnergy will be entitled to receive approximately 6.5% of the common stock of NRG and approximately $30 million of NRG Senior Notes. Applicants are requesting expeditious approval.

Comment Date: December 5, 2003.

2. New England Power Pool and ISO New England Inc.

[Docket Nos. ER03-1141-002 and EL03-222-002]

Take notice that on November 6, 2003, the New England Power Pool Participants Committee (NEPOOL) submitted for filing two corrections to the attachments to the Response to Commission's Questions Regarding Transmission Cost Allocation Proposal for New England, which was filed on October 29, 2003 (October 29 Filing). NEPOOL states that copies of these materials were sent to all entities who received the October 29 Filing.

Comment Date: November 26, 2003.

3. Midwest Generation, LLC

[Docket No. ER03-1187-000 and ER03-1187-001]

Take notice that on November 4, 2003, as amended on November 7, 2003, Midwest Generation, LLC and Commonwealth Edison Company filed a Settlement Agreement establishing revised rates for black start service.

Comment Date: November 28, 2003.

4. New York State Electric & Gas Corporation

[Docket Nos. ER04-9-001]

Take notice that on November 7, 2003, New York State Electric & Gas Corporation (NYSEG) tendered for filing with the Federal Energy Regulatory Commission an executed Substitute Original Interconnection Agreement between NYSEG and Seneca Energy II, LLC (Seneca) that sets forth the terms and conditions governing the interconnection between Seneca's Ontario County Landfill generating facility in Ontario County, New York and NYSEG's transmission system.

NYSEG states that copies of this filing have been served upon Seneca, the New York State Public Service Commission, and the New York Independent System Operator, Inc.

Comment Date: November 28, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00354 Filed 11-21-03; 8:45 am]

BILLING CODE 6717-01-P